DEPARTMENT OF THE TREASURY

Bureau of Alcohol, Tobacco and Firearms

27 CFR Part 252

[T.D. ATF-477]

RIN 1512-AC44

Delegation of Authority; Correction

AGENCY: Bureau of Alcohol, Tobacco and Firearms (ATF), Treasury.

ACTION: Final rule; correction.

SUMMARY: The Bureau of Alcohol, Tobacco and Firearms published a final rule in the April 15, 2002, Federal Register concerning the delegation of the Director's authorities in its exportation of liquors regulations. This document corrects the amendatory instructions in one paragraph of that final rule.

DATES: This rule is effective July 25, 2002.

FOR FURTHER INFORMATION CONTACT: Robert Ruhf, Regulations Division, Bureau of Alcohol, Tobacco and Firearms, 650 Massachusetts Avenue NW., Washington, DC 20226; telephone 202-927-8210.

SUPPLEMENTARY INFORMATION: We published a final rule in the Federal Register on April 15, 2002, (67 FR18086) relating to the delegation of the Director's authorities in Part 252 of Title 27 of the Code of Federal Regulations, Exportation of Liquors. Paragraph 44 of that final rule contained incorrect amendatory instructions for § 252.250. This document provides the correct instructions for amending that section.

Correction

Rule document FR Doc. 02—8869, published on April 15, 2002, (67 FR 18086) is corrected as follows:

§ 252.250 [Corrected]

On page 18090, in the second column, paragraph 44 should read as follows:

Par. 44. Amend § 252.250 by:

a. Removing the words “regional director (compliance) with whom the application, notice, or notice and claim is filed” each place they appear and adding, in substitution, the words “appropriate ATF officer”.

b. Removing the words “regional director (compliance) with whom the notice and claim is filed” in the second sentence of the introductory text and adding, in substitution, the words “appropriate ATF officer”.

Signed: July 12, 2002.
Bradley A. Buckles,
Director.

[FR Doc. 02-18553 Filed 7-24-02; 8:45 am]

BILLING CODE 4810-31-P